DEPARTMENT OF VETERANS AFFAIRS

[OMB Control No. 2900-0128]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before March 25, 2002.

FOR FURTHER INFORMATION OR A COPY OF THE SUBMISSION CONTACT: Denise McLamb, Information Management Service (045A4), Department of Veterans Affairs, 8l0 Vermont Avenue, NW, Washington, DC 20420, (202) 273-8030, FAX (202) 273-5981 or e-mail: denise.mclamb@mail.va.gov. Please refer to “OMB Control No. 2900-0128.”

SUPPLEMENTARY INFORMATION:

Titles: a. Notice of Lapse—Government Life Insurance, VA Form 29-389.

b. Application for Reinstatement, VA Form 29-389-1.

c. Notice of Past Due Payment, VA Form 29-389e.

OMB Control Number: 2900-0128.

Type of Review: Extension of a currently approved collection.

Abstract: The forms are used to inform veterans of their lapsed Government Life Insurance policy; application for reinstatement of insurance and notice of past due insurance payments.

An agency may not conduct or sponsor, and a person is not required to respond to a collection of information unless it displays a currently valid OMB control number. The Federal Register Notice with a 60-day comment period soliciting comments on this collection of information was published on November 23, 2001, at pages 58781-58782.

Affected Public: Individuals or households.

Estimated Annual Burden: 4,943 hours.

a. VA Form 29-389-3,399 hours.

b. VA Form 29-389-1-1,060 hours.

c. VA Form 29-389e-484 hours.

Estimated Average Burden Per Respondent:

a. VA Form 29-389-12 minutes.

b. VA Form 29-389-1-10 minutes.

c. VA Form 29-389e-15 minutes.

Frequency of Response: On occasion.

Estimated Number of Respondents: 25,288.

a. VA Form 29-389-16,993.

b. VA Form 29-389-1-6,359.

c. VA Form 29-389e-1,936.

Send comments and recommendations concerning any aspect of the information collection to VA's OMB Desk Officer, OMB Human Resources and Housing Branch, New Executive Office Building, Room 10235, Washington, DC 20503 (202) 395-7316. Please refer to “OMB Control No. 2900-0128” in any correspondence.

Dated: February 7, 2002.
By direction of the Secretary.
Barbara H. Epps,
Management Analyst, Information Management Service.

[FR Doc. 02-4127 Filed 2-20-02; 8:45 am]

BILLING CODE 8320-01-P